DEPARTMENT OF HEALTH AND HUMAN SERVICES

Administration on Aging

Agency Information Collection Activities; Submission for OMB Review; Comment Request; State Program Report for Title III of the Older Americans Act

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by December 4, 2003.

ADDRESSES: Submit written comments on the collection of information to the Office of Information and Regulatory Affairs, OMB, New Executive Office Bldg., 725 17th St., NW., rm. 10235, Washington, DC 20503, Attn: Brenda Aguilar, Desk Officer for AoA.

FOR FURTHER INFORMATION CONTACT: Saadia Greenberg, Office of Evaluation, Administration on Aging, Room 5607, Washington, DC 20201, (202) 357-3554.

SUPPLEMENTARY INFORMATION: In compliance with 44 U.S.C. 3507, AoA has submitted the following proposed collection of information to OMB for review and clearance.

State Program Reports provide state totals of the number of persons served for each type of service under the Older Americans Act Title III and Title VII programs as well as the number units of services provided and some characteristics of the clients. Information is also reported on expenditures for each type of service, staffing levels of state and area agencies on aging.

The information collection is an annual requirement for the 56 respondents. These respondents include the State and Territorial Units on Aging comprised of the 50 States, the District of Columbia, the U.S. Virgin Islands, Puerto Rico, and the U.S. territories. The AoA estimates that a state of average size and complexity will need to commit 2,228 hours to prepare a full report.

In the Federal Register of June 2, 2003 (Vol. 68, No. 105), the agency requested comments on the proposed revised collection of information. The comments received were analyzed and have been incorporated wherever possible into this submission. As a result, we have reduced the reporting burden considerably. We are now seeking approval for this revision of the State Program Reports.

Dated: October 30, 2003.
Josefina G. Carbonell,
Assistant Secretary for Aging.

[FR Doc. 03-27658 Filed 11-3-03; 8:45 am]

BILLING CODE 4154-01-P